DEPARTMENT OF THE INTERIOR

Fish and Wildlife Service

Draft Comprehensive Conservation Plan and Environmental Impact Statement for the Petit Manan National Wildlife Refuge Complex

AGENCY: Fish and Wildlife Service, Department of the Interior.

ACTION: Notice of availability.

SUMMARY: The U.S. Fish and Wildlife Service (Service) announces that the Draft Comprehensive Conservation Plan (CCP) and Environmental Impact Statement (EIS) is available for the Petit Manan National Wildlife Refuge (NWR) Complex. This CCP is prepared pursuant to the National Wildlife Refuge System Administration Act of 1966, as amended by the National Wildlife Refuge System Improvement Act of 1997 (16 U.S.C. dd et seq.), and the National Environmental Policy Act of 1969, and describes how the Service intends to manage this five-refuge complex over the next 15 years.

DATES: Comments must be received within 60 days of this publication. Public hearings will be scheduled in the following communities: Milbridge, Augusta, Rockland, and Falmouth, Maine.

Send Comments to: Nancy McGarigal, Planning Team Leader, U.S. Fish and Wildlife Service, 300 Westgate Center Drive, Hadley, Massachusetts 01035, or e-mail comments to northeastplanning@fws.gov with a subject line stating “Petit Manan NWR Complex.”

ADDRESSES: Copies of the Draft CCP/EIS are available on compact diskette or hard copy, and may be obtained by writing: Nancy McGarigal, Planning Team Leader, U.S. Fish and Wildlife Service, 300 Westgate Center Drive, Hadley, Massachusetts 01035. Copies of the Draft CCP/EIS may also be accessed and downloaded at the following Web site address: http://northeast.fws.gov/planning.

FOR FURTHER INFORMATION CONTACT: Nancy McGarigal, Planning Team Leader, at 413-253-8562, or e-mail Nancy_McGarigal@fws.gov.

SUPPLEMENTARY INFORMATION: A CCP is required by the National Wildlife Refuge System Administration Act of 1966, as amended by the National Wildlife Refuge System Improvement Act of 1997 (16 U.S.C. 6688dd et seq). The purpose in developing a CCP is to provide refuge managers with a 15-year strategy for achieving refuge purposes and contributing toward the mission of the National Wildlife Refuge System (System), consistent with sound principles of fish and wildlife science, conservation, legal mandates, and Service policies. In addition to outlining broad management direction on conserving wildlife and their habitats, the CCP identifies wildlife-dependent recreational opportunities available to the public, including opportunities for hunting, fishing, wildlife observation and photography, and environmental education and interpretation. These CCPs will be reviewed and updated at least every 15 years in accordance with the National Wildlife Refuge System Administration Act of 1966, as amended by the National Wildlife Refuge System Improvement Act of 1997 (16 U.S.C. dd et seq.), and the National Environmental Policy Act of 1969.

The Petit Manan NWR Complex lies along the Maine coast and is comprised of five NWRs: Cross Island, Seal Island, Franklin Island, Pond Island, and Petit Manan. Each have separate establishment histories and refuge purposes; however, they all have in common the purpose to protect and manage migratory birds. Seal Island (65 acres; established 1972), Franklin Island (12 acres; established 1973), and Pond Island (10 acres; established 1973) are single-island NWRs. Cross Island NWR (1,703 acres; established 1980) is a six-island complex, and Petit Manan NWR (5,771 acres; established 1974) includes 3 mainland divisions (Petit Manan, Gouldsboro Bay, and Sawyers Marsh) and 33 islands which span the Maine coast from the New Hampshire border to Machias Bay in downeast Maine.

In the Draft CCP/EIS we evaluate 4 management alternatives which address 14 major issues identified during the planning process. These issues were generated from several sources: The public; State or Federal agencies; our conservation partners; our planning team; or, other Service programs. The issues are described in detail in the document. Highlights of the alternatives are as follows:

Alternative A (Current Management): This alternative is the “No Action” alternative required by the National Environmental Policy Act of 1969, 42 U.S.C. 4321-4347 as amended, and by its implementing regulations 40 CFR 1500-1508. Alternative A defines our current management activities including those planned, funded, and/or under way, and serves as the baseline against which to compare the other three action alternatives. Funding and staffing levels would not increase appreciably over those in fiscal years 2002-2003. Our biological program priority would continue to be the six intensively-managed seabird habitat restoration projects on refuge islands. We manage vegetation, seabird predators, and public use and access, and collect detailed biological information at these project sites. In addition, we would continue to maintain the 70 acres of open field and the three freshwater impoundments on the Petit Manan Point mainland division, and continue baseline vegetation and wildlife inventories as staffing and funding allows.

There would be no change to our priority public use programs: hunting, fishing, wildlife observation and photography, and environmental education and interpretation. These uses were established as a priority on refuges by the National Wildlife Refuge System Improvement Act of 1997. Our annual hunt program would continue, which includes waterfowl hunting on 22 islands, deer hunting on Bois Bubert Island, and small game, big game, and waterfowl hunting on the Sawyers Marsh and Gouldsboro Bay mainland divisions. The two interpretive trails on the Petit Manan Point Division would be maintained; otherwise, no new public use infrastructure would be developed.

We would continue to pursue Service acquisition from willing sellers of 467 acres within our currently approved boundary. We would also continue to facilitate the pending, no-cost land transfer of Corea Heath (400 acres) from the U.S. Navy. It would become a fourth mainland division on the Petit Manan NWR. In addition, we would seek an expansion of Petit Manan NWR to include 30 nationally significant seabird nesting islands (667.2 acres) and 153 acres of important coastal mainland habitat which are not permanently protected.

Alternative B (The Service's Preferred Alternative): This alternative represents those actions which we believe most effectively achieve the purposes and goals of Petit Manan NWR Complex, and address the major issues. Funding and staffing levels would increase to support the program expansions we propose. The protection and restoration of seabird habitat would continue to be the highest biological program priority and we would expand this program to initiate six new project areas over the 15-year planning time-frame. We would focus our habitat management, inventory, and monitoring activities to benefit seabirds, migratory landbirds, waterfowl, and shorebirds identified as a conservation priority in national and regional plans.

Our priority public use programs would notably expand, especially in the areas of environmental education and interpretation. New infrastructure would be developed, including interpretive kiosks, and new trails, observation platforms, and parking areas on the Gouldsboro Bay, Sawyers Marsh, and Corea Heath divisions. We would place interpreters on commercial wildlife viewing tour boats. Our seasonal island closures to protect nesting seabirds would be modified on certain islands to allow public access in August; a month earlier than is currently allowed. We would also continue to pursue our proposal for a new Headquarters and Coastal Education Center; a proposal we would further develop in a separate environmental analysis once prospective sites are identified. Our hunt program would be expanded to include white-tailed deer hunting on the Petit Manan Point Division.

We would enhance local community outreach and our partnerships with other Service programs, Maine Department of Inland Fisheries and Wildlife (MDIFW), numerous conservation organizations, and the Friends of Maine Seabird Islands. All of these relationships would be integral to successfully accomplishing our goals and objectives.

We would pursue Service acquisition similar to Alternative A, except we would increase our proposed Petit Manan NWR expansion to include 87 nationally significant seabird and bald eagle nesting islands (2,314 acres) not permanently protected. According to our Gulf of Maine Program staff and MDIFW, these 87 islands are the highest priority seabird and bald eagle nesting islands in Maine in need of permanent protection. This proposal would make significant gains in the regional recovery of several species of seabirds and bald eagles. On our mainland divisions, we would await the recommendations of the inter-agency Maine Wetlands Protection Coalition Team before determining if an expansion proposal is warranted.

We would pursue wilderness designation of eight wilderness study areas (WSAs), comprised of 13 islands. Appendix D of the Draft CCP/EIS describes in detail the wilderness review process we conducted on all current refuge lands. Until a final decision on wilderness designation, or we choose to modify the recommendation, we would manage the WSAs to maintain their wilderness character to the extent it would not preclude fulfilling the respective refuge establishment purposes and the Refuge System mission. Existing, compatible priority public uses, including hunting and fishing, would not be affected by management to preserve wilderness character and values. If formally designated as wilderness, the purposes of the Wilderness Act would become additional purposes of the affected NWRs. We would manage to achieve the establishing purposes of these NWRs, the mission of the National Wildlife Refuge System and the purposes in the Wilderness Act.

Alternative C: This alternative builds on Alternative B with substantial expansions of our biological, public use, and land protection programs. Funding and staffing levels would increase commensurately. We would initiate 12 new seabird habitat restoration sites over the 15-year planning time-frame, substantially increasing our responsibilities for and leadership in seabird recovery in Maine. Our biological inventory and monitoring programs would notably increase in complexity and duration, but would remain focused on seabirds, migratory landbirds, waterfowl, and shorebirds identified as a conservation priority in national and regional plans.

Under this alternative, we would implement the expanded priority public use programs identified in Alternative B, and would further supplement the educational and interpretive programs. On some seabird habitat restoration sites, we would install a live-feed video camera, to be broadcast on our website for use with a curriculum we would develop. We would also pursue a partnership with State and Federal highway administrations to construct interpretive panels at rest stops and visitor facilities along major travel ways. With regards to non-priority public uses, we would open Petit Manan, Gouldsboro Bay, and Sawyers Marsh divisions and Cross and Bois Bubert islands to furbearer trapping according to State and refuge regulations. On the mainland divisions, trapping would not begin before December to protect the thousands of fall migrating waterfowl congregating on refuge wetlands.

Alternative C proposes the largest refuge expansion. We would pursue Service acquisition from willing sellers of all, or parts of, 151 nationally significant seabird and bald eagle nesting islands (approximately 6,310 acres) not permanently protected. This proposal includes all unprotected coastal Maine islands determined nationally significant and would substantially advance the regional recovery of seabirds and bald eagles. In addition to the mainland parcels identified in Alternative B, we would pursue Service acquisition of mainland tracts from willing sellers on a case-by-case basis within Atlantic Coast Joint Venture Focus Areas. Our priority would be to acquire those tracts with high quality migratory waterfowl habitat in proximity to existing refuge lands.

Similar to Alternative B, we would pursue formal wilderness designation of the eight WSAs.

Alternative D: This alternative is best described as a custodial, or low-intervention, approach to administering the complex and managing its resources. We would minimize human intrusion or intervention into ongoing ecological processes, except where necessary to protect threatened and endangered species, avoid catastrophic loss to seabird populations on refuge lands, control invasive and exotic species, or enforce regulations. Funding and staffing levels would remain at current levels, with the exception of added law enforcement capabilities.

We would reduce our effort at individual seabird restoration sites, limiting our activities to non-lethal gull control, and hand-treatment of vegetation. We would no longer use sheep, prescribed burning, or mowing to manage vegetation. Our monitoring of seabird nesting success would be curtailed to an annual census of nesting pairs.

We would maintain the priority public use infrastructure currently in place on the Petit Manan Point Division, but would keep the other mainland divisions undeveloped to minimize public use. Instead, our priority public use efforts would be focused on off-site environmental education and interpretation, such as at the proposed Coastal Education Center and in schools. Hunting would not be allowed on refuge lands. Further, all islands would be closed to public use and access year round, except when a tour is organized by our staff or led by a partner operating under a special use permit.

Under Alternative D, we would continue to pursue Service acquisition from willing sellers of the 467 acres within our currently approved boundary. No expansion would occur; however, we would continue to work with our land conservation partners to support their efforts in protecting important coastal habitats in Maine. We would not pursue formal wilderness designation under this alternative.

Dated: February 26, 2004.
Richard O. Bennett,
Acting Regional Director, U.S. Fish and Wildlife Service, Hadley, Massachusetts.

[FR Doc. 04-9783 Filed 4-29-04; 8:45 am]

BILLING CODE 4310-55-P